DEPARTMENT OF HOMELAND SECURITY

Coast Guard

33 CFR Part 117

[Docket No. USCG-2022-0360]

Drawbridge Operation Regulation; Back Bay of Biloxi, Biloxi, MS

AGENCY: Coast Guard, DHS.

ACTION: Notice of temporary deviation from regulations; request for comments.

SUMMARY: The Coast Guard has issued a temporary deviation from how the CSX Transportation railroad drawbridge across the Back Bay of Biloxi, mile 0.4, Biloxi, MS will be operated. The bridge will continue to open according to the drawbridge regulations but the bridge tender will operate this bridge from a remote location at the CSX railroad terminal in Mobile, Alabama. The Coast Guard is seeking comments from the public regarding these proposed changes.

DATES: This deviation is effective from 7 a.m. September 19, 2022 until March 20, 2023.

Comments and relate material must reach the Coast Guard on or before November 18, 2022.

ADDRESSES: You may submit comments identified by docket number USCG-2022-0360 using Federal Decision Making Portal at https://www.regulations.gov.

See the “Public Participation and Request for Comments” portion of the SUPPLEMENTARY INFORMATION: See section below for instructions on submitting comments.

FOR FURTHER INFORMATION CONTACT: If you have questions on this test deviation, call or email Douglas Blakemore, Eighth Coast Guard District Bridge Administration Branch Chief at (504) 671-2128 or Douglas.A.Blakemore@uscg.mil.

SUPPLEMENTARY INFORMATION:

I. Background, Purpose and Legal Basis

The CSX Transportation railroad drawbridge crosses the Back Bay of Biloxi, mile 0.4, Biloxi, MS. The bridge will continue to open according to the drawbridge regulations but the bridge tender will operate this bridge from a remote location at the CSX railroad terminal in Mobile, Alabama. This bridge has a 14-foot vertical clearance at mean high water, an unlimited vertical clearance when in the open to vessel position and a 132-foot horizontal clearance. The bridge operates according to 33 CFR 117.5.

CSX Transportation has requested to operate this bridge remotely from their railroad terminal in Mobile, AL. CSX has installed a remote operation system at the bridge and a remote control center, located in Mobile, AL. At the bridge, CSX has installed infrared cameras, closed circuit cameras and TVs, communication systems and information technology systems on the bridge that allow an operator from Mobile to monitor and control the bridge. This waterway is used primarily by recreational boats and small towing vessels and opens to vessels approximately 6 times per day.

The Coast Guard will evaluate the impact of this test on vessels by analyzing CSX bridge tender logs and public comments.

The Coast Guard will also inform the users of the waterways through our Local and Broadcast Notices to Mariners of the change in operating schedule for the bridge so that vessel operators can arrange their transits to minimize any impact caused by the test deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2022-0360 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. We review all comments received, but we will only post comments that address the topic of this deviation. We may choose not to post off-topic, inappropriate, or duplicate comments that we receive. Additionally, if you go to the online docket and sign up for email alerts, you will be notified when comments are posted or a final rule is published of any posting or updates to the docket.

We accept anonymous comments. Comments we post to https://www.regulations.gov will include any personal information you have provided. For more about privacy and submissions in response to this document, see DHS's eRulemaking System of Records notice (85 FR 14226, March 11, 2020).

Dated: September 13, 2022.
Douglas Blakemore,
Chief, Bridge Administration Branch, U.S. Coast Guard, Eighth Coast Guard District.

[FR Doc. 2022-20176 Filed 9-16-22; 8:45 am]

BILLING CODE 9110-04-P